FEDERAL MARITIME COMMISSION

Notice of Agreements Filed

The Commission hereby gives notice of the filing of the following agreements under the Shipping Act of 1984. Interested parties may submit comments on an agreement to the Secretary, Federal Maritime Commission, Washington, DC 20573, within ten days of the date this notice appears in the Federal Register. Copies of agreements are available through the Commission's Office of Agreements (202-523-5793 or tradeanalysis@fmc.gov).

Agreement No.: 011405-019.

Title: Ocean Carrier Working Group Agreement.

Parties: Latin America Agreement; Israel Trade Conference; Trans-Atlantic Conference Agreement; Transpacific Stabilization Agreement; Middle East Indian Subcontinent Discussion Agreement; United States Australasia Discussion Agreement; Westbound Transpacific Stabilization Agreement; Middle East Indian Subcontinent Discussion Agreement; A.P. Moller-Maersk A/S; Evergreen Marine Corporation (Taiwan) Ltd.; King Ocean Service de Venezuela, S.A.; Star Shipping A/S; Tropical Shipping & Construction Company, Limited; Wallenius Wilhelmsen Logistics AS; Zim Integrated Shipping Services, Ltd.; and Hapag-Lloyd AG.

Filing Party: Wayne R. Rohde, Esq.; Sher & Blackwell LLP; 1850 M Street, NW.; Suite 900; Washington, DC 20036.

Synopsis: The amendment updates the membership of various underlying agreement parties and the names of various carrier parties.

Agreement No.: 011426-039.

Title: West Coast of South America Discussion Agreement.

Parties: APL Co. Pte Ltd.; CMA CGM, S.A.; Compania Chilena de Navigacion Interoceanica, S.A.; Compania Sud Americana de Vapores, S.A.; Frontier Liner Services, Inc.; Hamburg-Süd; Hapag-Lloyd AG; King Ocean Services Limited, Inc.; Mediterranean Shipping Company, S.A.; Seaboard Marine Ltd.; South Pacific Shipping Company, Ltd.; and Trinity Shipping Line, S.A.

Filing Party: Wayne R. Rohde, Esq.; Sher & Blackwell LLP; 1850 M Street, NW.; Suite 900; Washington, DC 20036.

Synopsis: The amendment adds the trade between the U.S. Pacific Coast and the West Coast of South America to the scope of the agreement and adds Maruba S.C.A. as a party.

Agreement No.: 011539-013.

Title: Montemar/CP Ships Space Charter and Sailing Agreement.

Parties: CP Ships USA, LLC and Montemar Maritima S.A.

Filing Party: Wayne R. Rohde, Esq.; Sher & Blackwell, LLP; 1850 M Street, NW.; Suite 900; Washington, DC 20036.

Synopsis: The amendment deletes CP Ships USA LLC as a party to the agreement, adds Hapag-Lloyd AG, replaces CP Ships with Hapag-Lloyd throughout the agreement, and restates and renames the agreement.

Agreement No.: 011830-006.

Title: CMA CGM-CP/HL-APL Indamex 3 Cross Space Charter, Sailing and Cooperative Working Agreement.

Parties: American President Lines, Ltd.; APL Co. PTE Ltd.; CMA CGM, S.A.; CP Ships (UK) Limited; and Hapag-Lloyd AG.

Filing Party: Wayne R. Rohde, Esq.; Sher & Blackwell, LLP; 1850 M Street, NW.; Suite 900; Washington, DC 20036.

Synopsis: The amendment deletes CP Ships as a party to the agreement, makes corresponding changes reflecting that removal, updates Hapag-Lloyd's corporate name, deletes obsolete language, and restates the agreement.

Agreement No.: 011894-002.

Title: CP Ships/Montemar Slot Swap Agreement.

Parties: CP Ships USA, LLC and Montemar Maritima, S.A.

Filing Party: Wayne R. Rohde, Esq.; Sher & Blackwell LLP; 1850 M Street, NW., Suite 900; Washington, DC 20036.

Synopsis: The amendment deletes CP Ships as a party to the agreement, adds Hapag-Lloyd AG as a party, replaces CP Ships with Hapag-Lloyd throughout the agreement, and restates and renames the agreement.

Agreement No.: 011928-001.

Title: Maersk Line/CP Ships Slot Charter Agreement.

Parties: A.P. Moller-Maersk A/S trading under the name of Maersk Line, CP Ships (UK) Limited/CP Ships USA, LLC.

Filing Party: Wayne R. Rohde, Esq.; Sher & Blackwell LLP; 1850 M Street NW.; Suite 900; Washington, DC 20036.

Synopsis: The amendment deletes the two CP Ships' entities as parties to the agreement, adds Hapag-Lloyd AG, replaces CP Ships with Hapag-Lloyd throughout the agreement, and restates and renames the agreement. It also replaces Article 12 of the agreement to reflect Australian legal requirements.

Agreement No.: 011931-001.

Title: CMA CGM/CP Ships/Marfret Vessel Sharing Agreement.

Parties: CMA CGM, S.A./CMA CGM (UK) Limited; Compagnie Maritime Marfret S.A.; and CP Ships (UK) Limited.

Filing Party: Wayne R. Rohde, Esq.; Sher & Blackwell LLP; 1850 M Street, NW.; Suite 900; Washington, DC 20036.

Synopsis: The amendment deletes CP Ships (UK) Limited as a party to the agreement, makes corresponding changes reflecting that removal, deletes certain limitations on Hapag-Lloyd's participation under the agreement, deletes obsolete language, and restates and renames the agreement.

Dated: August 4, 2006.
By Order of the Federal Maritime Commission.
Bryant L. VanBrakle,
Secretary.

[FR Doc. E6-12990 Filed 8-8-06; 8:45 am]

BILLING CODE 6730-01-P